FEDERAL COMMUNICATIONS COMMISSION

Notice of Public Information Collection(s) Being Reviewed by the Federal Communications Commission

July 10, 2001.

SUMMARY: The Federal Communications Commission, as part of its continuing effort to reduce paperwork burden invites the general public and other Federal agencies to take this opportunity to comment on the following information collection(s), as required by the Paperwork Reduction Act of 1995, Public Law 104-13. An agency may not conduct or sponsor a collection of information unless it displays a currently valid control number. No person shall be subject to any penalty for failing to comply with a collection of information subject to the Paperwork Reduction Act (PRA) that does not display a valid control number. Comments are requested concerning (a) whether the proposed collection of information is necessary for the proper performance of the functions of the Commission, including whether the information shall have practical utility; (b) the accuracy of the Commission's burden estimate; (c) ways to enhance the quality, utility, and clarity of the information collected; and (d) ways to minimize the burden of the collection of information on the respondents, including the use of automated collection techniques or other forms of information technology.

DATES: Written comments should be submitted on or before August 20, 2001. If you anticipate that you will be submitting comments, but find it difficult to do so within the period of time allowed by this notice, you should advise the contact listed below as soon as possible.

ADDRESSES: Direct all comments to Judy Boley, Federal Communications Commission, Room 1-C804, 445 12th Street, SW., DC 20554 or via the Internet to jboley@fcc.gov.

FOR FURTHER INFORMATION CONTACT: For additional information or copies of the information collection(s), contact Judy Boley at 202-418-0214 or via the Internet at jboley@fcc.gov.

SUPPLEMENTARY INFORMATION: OMB Control No.: 3060-0655.

Title: Requests for Waivers of Regulatory and Application Fees Predicated on Allegations of Financial Hardship.

Form No.: N/A.

Type of Review: Revision of a currently approved collection.

Respondents: Individuals or households, businesses or other for-profit.

Number of Respondents: 240.

Estimated Time Per Response: 1 hour.

Frequency of Response: On occasion reporting requirement and recordkeeping requirement.

Total Annual Burden: 240 hours.

Total Annual Cost: $3,200.

Needs and Uses: Pursuant to 47 U.S.C. 159, the FCC is required to collect annual regulatory fees from its licensees and permittees. Licensees and permittees may request waivers of the annual regulatory and application fees on grounds of financial hardship. The subject orders lists the types of documents or financial reports which are ordinarily maintained as business records or can be easily assembled, which may be submitted to support claims of financial hardship. The information is used by the FCC to determine if a party is entitled to the waiver.

OMB Control No.: 3060-0502.

Title: Section 73.1942, Candidate Rates.

Form No.: N/A.

Type of Review: Extension of a currently approved collection.

Respondents: Businesses or other for-profit.

Number of Respondents: 11,878 respondents; 296,950 responses.

Estimated Time Per Response: .5-20 hours.

Frequency of Response: Recordkeeping requirement, third party disclosure requirement, and on occasion reporting requirement.

Total Annual Burden: 671,107 hours.

Total Annual Cost: N/A.

Needs and Uses: Section 73.1942 requires broadcast licensees to disclose station practices offered to commercial advertisers that enhance the value of advertising spots and different classes of time. It also requires licensees to calculate the lowest unit charge and periodically review advertising records. The disclosure would allow candidates to determine that they are receiving the same charge as the most favored advertiser. The review of advertising records determines whether compliance with this section requires that candidates receive rebates or credits.

Federal Communications Commission.
Magalie Roman Salas,
Secretary.

[FR Doc. 01-17987 Filed 7-18-01; 8:45 am]

BILLING CODE 6712-01-U